DEPARTMENT OF COMMERCE

International Trade Administration

North American Free Trade Agreement (NAFTA), Article 1904; Binational Panel Review: Notice of Request for Panel Review; Correction

AGENCY: United States Section, NAFTA Secretariat, International Trade Administration, Department of Commerce.

ACTION: Notice; correction.

SUMMARY: The Department of Commerce published a document in the Federal Register of May 3, 2021, in which it announced the Binational Panel issuing its Interim Decision and Order in the matter of Large Residential Washers from Mexico. That document incorrectly stated that the Notice was for a Request for Panel Review, as well as incorrectly stating the date of issuance of the Interim Decision.

FOR FURTHER INFORMATION CONTACT: Paul E. Morris, United States Secretary, NAFTA Secretariat, 1401 Constitution Avenue NW, Washington, DC 20230, (202) 482-5438.

SUPPLEMENTARY INFORMATION:

Corrections

In the Federal Register of May 3, 2021, in FR Doc. 2021-09199, on page 23344, in the third column, the title of the document incorrectly states “Request for Panel Review”. The correct title is “Interim Panel Decision”.

In the Federal Register of May 3, 2021, in FR Doc. 2021-09199, on page 23345, in the first column in the Summary section, the date of issuance of the Interim Decision and Order incorrectly states April 26, 2019. The correct date of issuance is April 26, 2021.

Dated: May 5, 2021.
Paul E. Morris,
U.S. Secretary, NAFTA Secretariat.

[FR Doc. 2021-09874 Filed 5-10-21; 8:45 am]

BILLING CODE 3510-GT-P